DEPARTMENT OF ENERGY

Federal Energy Regulatory Commission

[Docket No. RP09-8-000]

Tuscarora Gas Transmission Company; Notice of Technical Conference

November 19, 2008.

Take notice that the Commission will convene a technical conference in the above-referenced proceeding on Thursday, December 11, 2008, at 10 a.m. (EDT), in a room to be designated at the offices of the Federal Energy Regulatory Commission, 888 First Street, NE., Washington, DC 20426.

The Commission's October 31, 2008 Order ¹ in Docket No. RP09-8-000 directed that a technical conference be held to address the issues raised by Tuscarora Gas Transmission Company's (Tuscarora) October 1, 2008 tariff filing. At the conference, Commission Staff and interested persons will have the opportunity to discuss all of the issues raised by Tuscarora's filing.

¹ Tuscarora Gas Transmission Co., 125 FERC ¶ 61,133 (2008).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Timothy Duggan at (202) 502-8326 or e-mail Timothy.Duggan@ferc.gov.

Kimberly D. Bose,
Secretary.

[FR Doc. E8-27917 Filed 11-24-08; 8:45 am]

BILLING CODE 6717-01-P